DEPARTMENT OF COMMERCE

Census Bureau

Agency Information Collection Activities; Submission to the Office of Management and Budget (OMB) for Review and Approval; Comment Request; American Community Survey (ACS) Methods Panel Tests

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 9, 2021 during a 60-day comment period. This notice allows for an additional 30 days for public comments.

Agency: U.S. Census Bureau, Commerce.

Title: American Community Survey Methods Panel Testing.

OMB Control Number: 0607-0936.

Form Number(s): ACS-1, ACS-1(GQ), ACS-1(PR)SP, ACS CAPI(HU), and ACS RI(HU).

Type of Request: Regular submission, Request for a Revision of a Currently Approved Collection.

Number of Respondents:

Test | Estimated number of respondents
Self-Response Mail Messaging and Contact Strategies Testing | Test A-60,000.
| Test B-60,000.
| Test C-60,000.
| Test D-60,000.
| Test E-60,000.
| Test F-60,000.
Respondent Feedback Pilot | 100,000.
Use of Administrative Data Test | 100,000.
Group Quarters Testing | 2,000 administrators.
| 30,000 residents.
Content Testing | Test A-70,000.
| Test B-70,000.
Content Testing Followup Interview | Test A-40,000.
| Test B-40,000.
Internet Instrument Testing | Test A-60,000.
| Test B-60,000.
| Test C-60,000.
| Test D-60,000.
| Test E-60,000.
| Test F-60,000.
Respondent Help Testing | 40,000.
Nonresponse Followup Data Collection Testing | 100,000.

Average Hours per Response:

Test | Estimated time per response (in minutes)
Self-Response Mail Messaging and Contact Strategies Testing | 40.
Respondent Feedback Pilot | 42 (40 minutes for the production ACS interview and 2 minutes for the optional followup questions).
Use of Administrative Data Test | 40.
Group Quarters Testing | 15 for the administrator interview 25 for the resident interview.
Content Testing | 40.
Content Testing Followup Interview | 40.
Internet Instrument Testing | 40.
Respondent Help Testing | 10.
Nonresponse Followup Data Collection Testing | 40.

Burden Hours:

Test | Estimated number of respondents | Estimated time per response (in minutes) | Total burden hours
Self-Respons e Mail Messaging and Contact Strategies Testing | Test A-60,000 | 40 | Test A-40,000.
| Test B-60,000 |  | Test B-40,000.
| Test C-60,000 |  | Test C-40,000.
| Test D-60,000 |  | Test D-40,000.
| Test E-60,000 |  | Test E-40,000.
| Test F-60,000 |  | Test F-40,000.
Respondent Feedback Pilot | 100,000 | 42 | 70,000.
Use of Administrative Data Test | 100,000 | 40 | 66,667.
Group Quarters Testing | 2,000 facility administrators | 15 | 13,000.
| 30,000 residents | 25 |
Content Testing | Test A-70,000 | 40 | Test A-46,667.
| Test B-70,000 |  | Test B-46,667.
Content Testing Followup Interview | Test A-40,000 | 40 | Test A-26,667.
| Test B-40,000 |  | Test B -26,667.
Internet Instrument Testing | Test A-60,000 | 40 | Test A-40,000.
| Test B-60,000 |  | Test B-40,000.
| Test C-60,000 |  | Test C-40,000.
| Test D-60,000 |  | Test D-40,000.
| Test E-60,000 |  | Test E-40,000.
| Test F-60,000 |  | Test F-40,000.
Respondent Help Testing | 40,000 | 10 | 6,667.
Nonresponse Followup Data Collection Testing | 100,000 | 40 | 66,667.
Total (over 3 years) * | 1,312,000 |  | 849,667.
Average per year | 437,333 |  | 283,222.
* Note: This is the maximum burden requested for these tests. Every effort is taken to use existing production sample for testing when the tests do not involve content changes.

Needs and Uses: The U.S. Census Bureau requests authorization from OMB for the American Community Survey (ACS) Methods Panel Tests.

The ACS is an ongoing monthly survey that collects detailed housing and socioeconomic data from about 3.5 million addresses in the United States and about 36,000 addresses in Puerto Rico each year. The ACS also collects detailed socioeconomic data from about 195,000 residents living in group quarters (GQ) facilities in the United States and Puerto Rico. Resulting tabulations from this data collection are provided on a yearly basis. The ACS allows the Census Bureau to provide timely and relevant housing and socioeconomic statistics, even for low levels of geography.

An ongoing data collection effort with an annual sample of this magnitude requires that the ACS continue research, testing, and evaluations aimed at improving data quality, reducing data collection costs, and improving the ACS questionnaire content and related data collection materials. The ACS Methods Panel is a research program designed to address and respond to survey issues and needs. As part of the Decennial Census Program, the ACS also provides an opportunity to research and test elements of survey data collection that relate to the decennial census. As such, the ACS Methods Panel can serve as a testbed for the decennial census. From 2021 to 2024, the ACS Methods Panel may test ACS and decennial census methods for reducing survey cost, addressing respondent burden, and improving survey response, data quality, and survey efficiencies. Testing may also include revising content or testing new questions. The ACS Methods Panel may also address other emerging needs of the programs. Currently, plans are in place to propose several tests:

Self-Response Mail Messaging and Contact StrategiesTesting are focused on studying methods to increase self-response. The proposed tests would evaluate changes to the mailings, such as using plain language to improve communication, changing the look and feel of the materials, updating messages to motivate response, and adding or removing materials included in the mailings. Changes to the contact method, the number of contacts, and the timing of the contacts may also be tested. The Strategic Framework Field Test will be conducted in the fall of 2021 to test new mail materials that were developed building on research into best practices in messages. The test will identify which set of new mail materials is most successful at increasing self-response.

The Respondent Feedback Pilot is designed to collect respondent feedback at the time of the interview, with the pilot focusing on internet respondents. Respondents will not be required to answer the feedback question.

The Use of Administrative Data to reduce burden of existing questions by allowing for modification of the questions will be tested. A field test is proposed for questions that may need to remain on the questionnaire but be modified in conjunction with the use of administrative records.

Group Quarters Testing will focus on evaluating an internet version of the ACS available to non-institutional group quarters residents, especially in college dorms, military barracks, and group homes.

Content Testing is conducted by the Census Bureau periodically to improve data quality. The current proposal includes changes to the following questions: Household roster, educational attainment, health insurance, disability, means of transportation to work, income, weeks worked, Supplemental Nutrition Assistance Program (SNAP), condominium fees, and home heating fuel. Additionally, three new questions on solar panels, electric vehicles, and sewage disposal were proposed. The objective of content testing is to determine the impact of changing question wording and response categories, as well as redefining underlying constructs, on the quality of the data collected.

Internet Instrument Testing is proposed to test and evaluate revised features of the internet instrument.

Respondent Help Testing will focus on methods to answer respondent questions about the survey and improve operational efficiency, specifically testing updates to the Interactive Voice Recognition (IVR) system as well as exploring the use of other methods such as online chat.

Nonresponse Followup Data Collection Testing is proposed to evaluate the use of adaptive survey design techniques for the ACS Computer-Assisted Personal Interviewing (CAPI) Nonresponse Followup operation.

Affected Public: Individuals or households.

Frequency: Multiple one-time tests over a 3-year period.

Respondent's Obligation: Mandatory.

Legal Authority: Title 13 U.S.C. Sections 141, 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0936.

Sheleen Dumas,
Department PRA Clearance Officer, Office of the Chief Information Officer, Commerce Department.

[FR Doc. 2021-13429 Filed 6-23-21; 8:45 am]

BILLING CODE 3510-07-P